INTERNATIONAL TRADE COMMISSION

Miscellaneous Tariff Bill (MTB) Petition System; Submission of Petition and Comment Forms for OMB Review

AGENCY: United States International Trade Commission.

ACTION: Notice.

SUMMARY: The International Trade Commission has submitted request for approval of a questionnaire to the Office of Management and Budget. This notice is being given pursuant to the Paperwork Reduction Act of 1995.

FOR FURTHER INFORMATION CONTACT: Copies of the forms and supporting documents may be obtained from Jennifer Rohrbach, USITC Miscellaneous Tariff Bill Program Manager, Office of Operations (jennifer.rohrbach@usitc.gov or 202-205-2088). Comments about the proposal should be directed to the Office of Management and Budget, Office of Information and Regulatory Affairs, Room 10102 (Docket Library), Washington, DC 20503, ATTENTION: Docket Librarian. All comments should be specific, indicating which part of the form is objectionable, describing the concern in detail, and including specific suggested revisions or language changes. Copies of any comments should be provided to Keith Vaughn, Chief Information Officer, U.S. International Trade Commission, 500 E Street SW, Washington, DC 20436, who is the Commission's designated Senior Official under the Paperwork Reduction Act.

General information concerning the Commission may also be obtained by accessing its website (https://www.usitc.gov). Hearing-impaired individuals are advised that information on this matter can be obtained by contacting the TDD terminal on 202-205-1810. Persons with mobility impairments who will need special assistance in gaining access to the Commission should contact the Secretary at 202-205-2000.

SUPPLEMENTARY INFORMATION:

Purpose of Information Collection: The information requested by these forms is for use by the Commission in connection with collecting petitions for temporary duty suspensions or reductions (“petitions”) submitted under the American Manufacturing Competitiveness Act of 2016, 19 U.S.C. 1332 note (“the Act”), and public comments on petitions filed under the Act. Section 3 of the Act establishes a process for the submission and consideration of petitions and public comments for duty suspensions and reductions for imported goods in the Harmonized Tariff Schedule of the United States. The petition submission period for this cycle is 60 days starting not later than October 15, 2019.

Summary of Proposal:

(1) Number of forms submitted: 2.

(2) Title of forms: MTB Petition System: Petition Submission Information Form and MTB Petition System: Comment Submission Information Form.

(3) Type of request: New.

(4) Frequency of use: Once.

(5) Description of affected industry: Domestic firms.

(6) Estimated number of petitioners and commenters: Up to 7,000 petitions; 5,000 comments.

(7) Estimated total number of hours to complete the form: 8 hours for compiling information and submitting petitions and 2 hours to draft and submit comments.

(8) Information obtained from the forms that qualifies as confidential business information will be so treated by the Commission.

By order of the Commission.
Issued: July 2, 2019.
Lisa Barton,
Secretary to the Commission.

[FR Doc. 2019-14458 Filed 7-5-19; 8:45 am]

BILLING CODE 7020-02-P